DEPARTMENT OF THE INTERIOR

National Park Service

[NPS-ACR-NPS0035530; 5038 PPSESEROR4 PX.P0318045B.00.1; OMB Control Number 1024-NEW]

Agency Information Collection Activities; National Park Service Application for the Lower Mississippi Delta Initiative

AGENCY: National Park Service, Interior.

ACTION: Notice of information collection; request for comment.

SUMMARY: In accordance with the Paperwork Reduction Act of 1995 we, the National Park Service (NPS), are proposing a new information collection.

DATES: Interested persons are invited to submit comments on or before August 27, 2024.

ADDRESSES: Please provide a copy of your comments to the NPS Information Collection Clearance Officer (ADIR-ICCO), 13461 Sunrise Valley Drive, (MS-244) Herndon, VA 20171 (mail); or to phadrea_ponds@nps.gov (email). Please reference OMB Control Number 1024-NEW (LMDI) in the subject line of your comments.

FOR FURTHER INFORMATION CONTACT: To request additional information about this ICR, contact Cynthia Walton, Branch Manager, Archeological and Historic Preservation Partnerships to cynthia_walton@nps.gov (email) or at 404-354-6072 (telephone). Please reference OMB Control Number 1024-NEW (LMDI) in the subject line of your comments. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary for the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Lower Mississippi Delta Initiatives (LMDI) authorizes the Department of the Interior to establish within the National Park Service (NPS) a program to award grants to qualified tribal, governmental, and non-governmental entities and individuals to assist the Secretary in the preservation of regional culture and history, and the enhancement of educational and other recreational opportunities for delta residents. The Secretary is further authorized to award grants and provide other types of technical and financial assistance to the aforementioned entities and individuals to conserve and protect historic and archeological sites and structures in the Delta Region.

As part of this effort, sites, facilities, programs, or properties applying for inclusion in the Network we are requesting OMB to approve the following collections: 10-2020 LMDI Local Heritage Grants Application, and 10-2020A LMDI Budget and Funding Form. Both will be used by the NPS and Jefferson National Parks Association (JNPA) to determine eligibility. Grant recipients will be required to submit a Midway and Annual Report.

Title of Collection: Application for the National Park Service Lower Mississippi Delta Initiative (LMDI).

OMB Control Number: 1024-NEW.

Form Number: 10-2020 LMDI Local Heritage Grants Application, 10-2020A LMDI Budget and Funding Form, Midway and Final Reports.

Type of Review: New.

Respondents/Affected Public: State, Local, or Tribal Government and Not-for-profit institutes.

Total Estimated Number of Annual Respondents: 10.

Total Estimated Number of Annual Responses: 40.

Estimated Completion Time per Response: 8 hours per application, form, or report.

Total Estimated Number of Annual Burden Hours: 320 hours.

Respondent's Obligation: Voluntary.

Frequency of Collection: One time per respondent.

Total Estimated Annual Nonhour Burden Cost: None.

An agency may not conduct or sponsor nor is a person required to respond to a collection of information unless it displays a currently valid OMB control number. The authority for this action is the Paperwork Reduction Act of 1995 (44 U.S.C. 3501 et seq.).

Phadrea Ponds,
Information Collection Clearance Officer, National Park Service.

[FR Doc. 2024-14160 Filed 6-27-24; 8:45 am]

BILLING CODE 4312-52-P